NUCLEAR REGULATORY COMMISSION

Sunshine Act Meeting Notice

Agency Holding the Meeting: Nuclear Regulatory Commission.

Date: Weeks of September 23, 30, October 7, 14, 21, 28, 2002.

Place: Commissioner' Conference Room, 11555 Rockville Pike, Rockville, Maryland.

Status: Public and Closed.

Matters to be Considered:

Week of September 23, 2002

There are no meetings scheduled for the Week of September 23, 2002.

Week of September 30, 2002—Tentative

Tuesday, October 1, 2002

9:25 a.m.—Affirmation Session (Public Meeting) a. Private Fuel Storage (Independent Spent Fuel Storage Installation) Docket No. 72-22-ISFSI; Review of LBP-02-08, consideration under NEPA of environmental justice issues b. International Uranium (USA) Corporation (White Mesa Uranium Mill) (MLA-10/Maywood material) Appeal of LBP-02-12

9:30 a.m.—Briefing on Decommissioning Activities and Status (Public Meeting) (Contact: John Buckley, 301-415-6607)

This meeting will be webcast live at the Web address— www.nrc.gov.

Wednesday, October 2, 2002

10:00 a.m.—Briefing on Strategic Workforce Planning and Human Capital Initiatives (Closed—Ex. 2)

Week of October 7, 2002—Tentative

There are no meeting scheduled for the Week of October 7, 2002.

Week of October 14, 2002—Tentative

There are no meetings scheduled for the Week of October 14, 2002.

Week of October 21, 2002—Tentative

There are no meetings scheduled for the Week of October 21, 2002.

Week of October 28, 2002—Tentative

Wednesday, October 30, 2002

2:00 p.m.—Discussion of Security Issues (Closed—Ex. 1-9)

Thursday, October 31, 2002

9:25 a.m.—Affirmation Session (Public Meeting) (If needed)

9:30 a.m.—Briefing on EEO Program (Public Meeting)

* The schedule for Commission meetings is subject to change on short notice. To verify the status of meetings call (recording)—(301) 415-1292. Contact person for more information: R. Michelle Schroll (301) 415-1662.

* * * * *

The NRC Commission Meeting Schedule can be found on the Internet at: www.nrc.gov/what-we-do/policy-making/schedule/html.

This notice is distributed by mail to several hundred subscribers; if you no longer wish to receive it, or would like to be added to the distribution, please contact the Office of the Secretary, Washington, DC 20555 (301-415-1969). In addition, distribution of this meeting notice over the Internet system is available. If you are interested in receiving this Commission meeting schedule electronically, please send an electronic message to dkw@nrc.gov.

Dated: September 19, 2002.
R. Michelle Schroll,
Acting Technical Cooridinator, Office of the Secretary.

[FR Doc. 02-24361 Filed 9-20-02; 2:05 pm]

BILLING CODE 7590-01-M